DEPARTMENT OF ENERGY

Federal Energy Regulatory Commission

[Docket No. CP05-361-000]

Freeport LNG Development, L.P.; Notice of Application

June 15, 2005.

Take notice that on May 26, 2005, Freeport LNG Development, L.P. (Freeport LNG), 1200 Smith Street, Suite 600, Houston, Texas 77002, filed an application in Docket No. CP05-361-000 pursuant to section 3 of the Natural Gas Act and Part 153 of the Commission's Regulations requesting authorization of the Freeport LNG Phase II Project. Specifically, Freeport LNG requests authorization to site, construct and operate the following facilities associated with the liquefied natural gas (LNG) import terminal that Freeport LNG is currently constructing on Quintana Island, Freeport, Texas: (1) An additional marine berthing dock and associated unloading facilities for LNG ships; (2) new and expanded vaporization systems; and (3) an additional LNG storage tank.

This application is on file with the Commission and open to public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any initial questions regarding this petition should be directed to counsel for Freeport LNG, Lisa M. Tonery, King and Spalding LLP, at (212) 556-2307 (phone), (212) 556-2222 (fax), or ltonery@kslaw.com.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commentors will be placed on the Commission's environmental mailing list, will receive copies of the environmental documents, and will be notified of meetings associated with the Commission's environmental review process. Environmental commentors will not be required to serve copies of filed documents on all other parties. The Commission's rules require that persons filing comments in opposition to the project provide copies of their protests only to the applicant. However, the non-party commentors will not receive copies of all documents filed by other parties or issued by the Commission (except for the mailing of environmental documents issued by the Commission) and will not have the right to seek court review of the Commission's final order.

The Commission strongly encourages electronic filings of comments, protests, and interventions via the internet in lieu of paper. See, 18 CFR 385.2001(a)(1)(iii) and the instructions on the Commission's Web site (www.ferc.gov) under the “e-Filing” link.

Comment Date: 5 p.m. Eastern Time on July 6, 2005.

Magalie Salas,
Secretary.

[FR Doc. E5-3253 Filed 6-21-05; 8:45 am]

BILLING CODE 6717-01-P